DEPARTMENT OF ENERGY

Federal Energy Regulatory Commission

Combined Notice of Filings #1

Take notice that the Commission received the following electric corporate filings:

Docket Numbers: EC24-48-000.

Applicants: Sonoran West Solar Holdings, LLC, Sonoran West Solar Holdings 2, LLC, GRP IV UK Holdco Limited.

Description: Joint Application for Authorization Under Section 203 of the Federal Power Act of Sonoran West Solar Holdings, LLC, et al.

Filed Date: 2/6/24.

Accession Number: 20240206-5152.

Comment Date: 5 p.m. ET 2/27/24.

Take notice that the Commission received the following exempt wholesale generator filings:

Docket Numbers: EG24-103-000.

Applicants: AP Sunray, LLC.

Description: AP Sunray, LLC submits Notice of Self-Certification of Exempt Wholesale Generator Status.

Filed Date: 2/7/24.

Accession Number: 20240207-5015.

Comment Date: 5 p.m. ET 2/28/24.

Docket Numbers: EG24-104-000.

Applicants: Delilah Solar Energy II LLC.

Description: Delilah Solar Energy II LLC submits Notice of Self-Certification of Exempt Wholesale Generator Status.

Filed Date: 2/7/24.

Accession Number: 20240207-5070.

Comment Date: 5 p.m. ET 2/28/24.

Docket Numbers: EG24-105-000.

Applicants: Samson Solar Energy II LLC.

Description: Samson Solar Energy II LLC submits Notice of Self-Certification of Exempt Wholesale Generator Status.

Filed Date: 2/7/24.

Accession Number: 20240207-5071.

Comment Date: 5 p.m. ET 2/28/24.

Take notice that the Commission received the following electric rate filings:

Docket Numbers: ER22-910-004.

Applicants: Rockland Electric Company, PJM Interconnection, L.L.C.

Description: Refund Report: Rockland Electric Company submits tariff filing per 35.19a(b): RECO submits Refund Report in Docket No. ER22-910 to be effective N/A.

Filed Date: 2/7/24.

Accession Number: 20240207-5019.

Comment Date: 5 p.m. ET 2/28/24.

Docket Numbers: ER23-2751-002; ER15-2539-001; ER18-1984-004; ER23-2750-002; ER23-2752-002; ER24-1159-000; ER24-1160-000; ER24-1161-000.

Applicants: Lakeswind Power Partners, LLC, TransAlta Energy Marketing (U.S.) Inc., TransAlta Energy Marketing Corp., WHITE ROCK WIND WEST, LLC, HORIZON HILL WIND, LLC, Big Level Wind LLC, TransAlta Wyoming Wind LLC, WHITE ROCK WIND EAST, LLC.

Description: Notice of Change in Status of White Rock Wind East, LLC, et al.

Filed Date: 1/31/24.

Accession Number: 20240131-5651.

Comment Date: 5 p.m. ET 2/21/24.

Docket Numbers: ER24-619-000.

Applicants: MS Solar 5, LLC.

Description: Supplement to December 11, 2023 MS Solar 5, LLC tariff filing.

Filed Date: 2/5/24.

Accession Number: 20240205-5195.

Comment Date: 5 p.m. ET 2/26/24.

Docket Numbers: ER24-759-001.

Applicants: PJM Interconnection, L.L.C.

Description: Tariff Amendment: Amendment of Amended WMPA, SA No. 5545; Queue No. AE2-125 re: FirstEnergy Reorg to be effective 1/1/2024.

Filed Date: 2/6/24.

Accession Number: 20240206-5143.

Comment Date: 5 p.m. ET 2/27/24.

Docket Numbers: ER24-1192-000.

Applicants: LS Power Development, LLC.

Description: LS Power Development, LLC submits a One-Time Limited Waiver Request of Procedural Deadlines within PJMs OATT.

Filed Date: 2/5/24.

Accession Number: 20240205-5187.

Comment Date: 5 p.m. ET 2/12/24.

Docket Numbers: ER24-1200-000.

Applicants: Southwest Power Pool, Inc.

Description: 205(d) Rate Filing: Revisions to Modify Addendum 1 to Attachment AE to be effective 4/8/2024.

Filed Date: 2/7/24.

Accession Number: 20240207-5017.

Comment Date: 5 p.m. ET 2/28/24.

Docket Numbers: ER24-1201-000.

Applicants: Southwest Power Pool, Inc.

Description: 205(d) Rate Filing: Revisions to Update Violation Relaxation Limit Value in the WEIS Market to be effective 12/31/9998.

Filed Date: 2/7/24.

Accession Number: 20240207-5020.

Comment Date: 5 p.m. ET 2/28/24.

Docket Numbers: ER24-1202-000.

Applicants: Midcontinent Independent System Operator, Inc.

Description: 205(d) Rate Filing: 2024-02-07_SA 2350 ITC-WM Renewable Energy 2nd Rev GIA (J025 J242) to be effective 1/29/2024.

Filed Date: 2/7/24.

Accession Number: 20240207-5027.

Comment Date: 5 p.m. ET 2/28/24.

Docket Numbers: ER24-1204-000.

Applicants: Midcontinent Independent System Operator, Inc.

Description: 205(d) Rate Filing: 2024-02-07_Update Manual Redispatch Notice Provisions to be effective 4/8/2024.

Filed Date: 2/7/24.

Accession Number: 20240207-5055.

Comment Date: 5 p.m. ET 2/28/24.

Docket Numbers: ER24-1205-000.

Applicants: Arizona Public Service Company.

Description: 205(d) Rate Filing: Service Agreement No. 418—E&P w/NTUA to be effective 1/8/2024.

Filed Date: 2/7/24.

Accession Number: 20240207-5058.

Comment Date: 5 p.m. ET 2/28/24.

Docket Numbers: ER24-1206-000.

Applicants: Northern States Power Company, a Minnesota corporation.

Description: 205(d) Rate Filing: 2024-02-07 GRE FSA—Slayton 755-NSP to be effective 2/8/2024.

Filed Date: 2/7/24.

Accession Number: 20240207-5087.

Comment Date: 5 p.m. ET 2/28/24.

Docket Numbers: ER24-1207-000.

Applicants: PJM Interconnection, L.L.C.

Description: Compliance filing: Cancellation of WMPA, SA No. 2388; V2-009 re:breach to be effective N/A.

Filed Date: 2/7/24.

Accession Number: 20240207-5088.

Comment Date: 5 p.m. ET 2/28/24.

Take notice that the Commission received the following electric securities filings:

Docket Numbers: ES24-24-000.

Applicants: Jersey Central Power & Light Company.

Description: Application Under Section 204 of the Federal Power Act for Authorization to Issue Securities of Jersey Central Power & Light Company.

Filed Date: 2/6/24.

Accession Number: 20240206-5154.

Comment Date: 5 p.m. ET 2/27/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 7, 2024.
Debbie-Anne A. Reese,
Acting Secretary.

[FR Doc. 2024-02919 Filed 2-12-24; 8:45 am]

BILLING CODE 6717-01-P